FEDERAL RESERVE SYSTEM

Sunshine Act Meetings

AGENCY: Board of Governors of the Federal Reserve System.

Time and Date: 9:30 a.m., Tuesday, May 21, 2013.

Place: Marriner S. Eccles Federal Reserve Board Building, 20th and C Streets NW., Washington, DC 20551.

Status: Closed.

Matters To Be Considered

1. Reserve Bank Personnel Compensation Matters.

FOR FURTHER INFORMATION CONTACT: Michelle Smith, Director, or Dave Skidmore, Assistant to the Board, Office of Board Members at 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: May 14, 2013.
Margaret M. Shanks,
Deputy Secretary of the Board.

[FR Doc. 2013-11772 Filed 5-14-13; 11:15 am]

BILLING CODE 6210-01-P